DEPARTMENT OF THE INTERIOR

Bureau of Land Management

[BLM_HQ_FRN_MO# 4500169335]

Notice of Availability of the Draft Resource Management Plan Amendment and Supplemental Environmental Impact Statement for the 2015 Miles City Field Office Approved Resource Management Plan, Montana

AGENCY: Bureau of Land Management, Interior.

ACTION: Notice of availability.

SUMMARY: In compliance with the National Environmental Policy Act of 1969, as amended (NEPA), and the Federal Land Policy and Management Act of 1976, as amended (FLMPA), the Bureau of Land Management (BLM) has prepared a Draft Resource Management Plan (RMP) Amendment and Draft Supplemental Environmental Impact Statement (EIS) for the 2015 Miles City Field Office Approved RMP that is available for public review and comment.

DATES: This notice announces the opening of a 90-day comment period for the Draft RMP Amendment/Supplemental EIS beginning with the date following the Environmental Protection Agency's (EPA) publication of its Notice of Availability (NOA) in the Federal Register. The EPA usually publishes its NOAs on Fridays.

To afford the BLM the opportunity to consider comments in the Proposed RMP Amendment/Final EIS, please ensure your comments are received prior to the close of the 90-day comment period or 15 days after the last public meeting, whichever is later.

The BLM will be holding two public meetings on the following dates at the following locations:

• June 6, 2023, at the Miles City Field Office, 111 Garryowen Road, Miles City, Montana from 5 p.m. to 7 p.m. MT.

• June 7, 2023, virtual meeting from 4 p.m. to 6 p.m. MT. Registration for meeting in the ePlanning project website (see ADDRESSES).

ADDRESSES: The Draft RMP Amendment/Supplemental EIS is available for review on the BLM ePlanning project website at https://eplanning.blm.gov/eplanning-ui/project/2021155/510.

Written comments related to the Draft RMP Amendment/Supplemental EIS may only be submitted by any of the following methods:

• Website: https://eplanning.blm.gov/eplanning-ui/project/2021155/510

• Mail: Miles City Draft Supplemental EIS/RMP Amendment, Attn: Irma Nansel, Project Manager, 111 Garryowen Road, Miles City, Montana 59301.

Documents pertinent to this proposal may be examined online at https://eplanning.blm.gov/eplanning-ui/project/2021155/510 and at the Miles City Field Office.

FOR FURTHER INFORMATION CONTACT: Irma Nansel, Project Manager, telephone 406-233-3653; or at the address BLM Miles City Field Office, 111 Garryowen Road, Miles City, MT, 59301; email inansel@blm.gov. Individuals in the United States who are deaf, deafblind, hard of hearing, or have a speech disability may dial 711 (TTY, TDD, or TeleBraille) to access telecommunications relay services for contacting Ms. Nansel. Individuals outside the United States should use the relay services offered within their country to make international calls to the point-of-contact in the United States.

SUPPLEMENTARY INFORMATION: This document provides notice that the BLM Montana/Dakotas State Director has prepared a Draft RMP Amendment/Supplemental EIS and provides information announcing the opening of the comment period on the Draft RMP Amendment/Supplemental EIS. The RMP amendment would change the existing 2015 Miles City Field Office Approved RMP.

The planning area is located in Carter, Custer, Daniels, Dawson, Fallon, Garfield, McCone, Powder River, Prairie, Richland, Roosevelt, Rosebud, Sheridan, Treasure, Wibaux, and portions of Big Horn and Valley Counties, Montana, and encompasses approximately 2.7 million surface acres and 11.7 million acres of Federal coal mineral estate of public land.

Purpose and Need

The purpose of this Draft RMP Amendment/Supplemental EIS is to address a United States District Court of Montana order (Western Organization of Resource Councils, et al. v. BLM; CV 00076-GF-BMM; 8/3/2022). The purpose and need of this Draft Supplemental EIS is to provide additional land use planning level analysis that considers no-leasing and limited coal leasing alternatives; to disclose the public health impacts, both climate and non-climate, of burning fossil fuels (coal, oil, and gas); and to complete new coal screens in accordance with 43 CFR 3420.1-4 to determine the lands to be made available for further consideration for coal leasing in the planning area.

Alternatives Including the Preferred Alternatives

The BLM has analyzed four alternatives in detail, including the no action alternative, varying the amount of BLM-administered Federal coal available for further consideration for coal leasing.

The No Action Alternative is the decision from the 2019 Approved RMP Amendment and brings forward the decisions that preclude coal leasing and development in the Miles City Field Office. It identified approximately 1,214,380 acres of Federal coal as available for further consideration for coal leasing across the Miles City Field Office.

The Action alternatives applied the coal screens (43 CFR 3420.1-4(e)) using current data and evaluated the issues identified through internal and public scoping. Application of coal screen 1 (development potential) identified approximately 1,745,000 Federal coal acres as having development potential. The Action alternatives also address the NEPA deficiencies identified by the court order associated with the application of the multiple-use screen. Specifically, they apply a multiple-use climate change criterion that uses greenhouse gas emissions as a proxy for climate change. Reducing availability of Federal lands reduces contribution of greenhouse gas emissions from the development and combustion of Federal coal from the planning area.

Alternative B analyzes approximately 57,690 acres of Federal coal as available for further consideration for coal leasing. Alternative C analyzes approximately 810 acres of Federal coal as available for further consideration for coal leasing, and Alternative D analyzes 0 (zero) acres of Federal coal as available for further consideration for coal leasing. The BLM revised the coal reasonably foreseeable development scenario from the 2015 Miles City RMP using the most current publicly available coal production data to forecast development during the planning period, to 2038. The revised reasonably foreseeable development scenario was applied to all alternatives.

The BLM further considered one additional alternative but dismissed it from detailed analysis, as explained in the Draft RMP Amendment/Supplemental EIS.

Identifying a preferred alternative(s) does not indicate any final decision commitments from the BLM. In developing the final supplemental EIS and potential RMP amendment, which is the next phase of the planning process, the decision maker may select various components from each of the alternatives analyzed in the Draft Supplemental EIS. The Final Supplemental EIS and Potential RMP Amendment may also reflect changes and adjustments based on comments received on the Draft Supplemental EIS, new information, or changes in BLM policies or priorities.

The BLM used the impact analysis, along with recommendations from cooperating agencies; consideration of planning criteria; and anticipated resolution of resource conflicts to identify Alternatives B and D as co-preferred alternatives from the suite of alternatives analyzed. Specifically, the identification of the co-preferred alternatives was based on the following.

• Two different alternatives have been identified as co-preferred alternatives for the purpose of public comment and review;

• Satisfaction of statutory requirements and the court order; and

• Provision of an acceptable approach to addressing key planning issues.

Schedule for the Decision-Making Process

The BLM will provide additional opportunities for public participation consistent with the NEPA and land use planning processes, including a 30-day public protest period and a 60-day Governor's consistency review on the Proposed RMP Amendment. The Proposed RMP Amendment/Final Supplemental EIS is anticipated to be available for public protest in September 2023 with an Approved RMP and Record of Decision in December 2023.

The date(s) and location(s) of any additional meetings will be announced at least 15 days in advance through local media, newspapers, the ePlanning project page (see ADDRESSES), and the BLM website (see ADDRESSES).

The BLM will continue to consult with Indian Tribal Nations on a government-to-government basis in accordance with Executive Order 13175, BLM MS 1780, and other Departmental policies. Tribal concerns, including impacts on Indian trust assets and potential impacts to cultural resources, will be given due consideration.

Before including your address, phone number, email address, or other personal identifying information in your comment, you should be aware that your entire comment—including your personal identifying information—may be made publicly available at any time. While you can ask us in your comment to withhold your personal identifying information from public review, we cannot guarantee that we will be able to do so.

(Authority: 40 CFR 1506.6, 40 CFR 1506.10, 43 CFR 1610.2.)

Sonya I. Germann,
State Director.

[FR Doc. 2023-09714 Filed 5-5-23; 8:45 am]

BILLING CODE 4331-20-P